DEPARTMENT OF LABOR

Employment and Training Administration

Investigations Regarding Eligibility To Apply for Trade Adjustment Assistance

In accordance with the Trade Act of 1974 (19 U.S.C. 2271, et seq.) (“Act”), as amended, the Department of Labor herein presents notice of investigations regarding eligibility to apply for trade adjustment assistance under Chapter 2 of the Act (“TAA”) for workers by (TA-W) started during the period of September 1, 2021 through September 30, 2021.

This notice includes instituted initial investigations following the receipt of validly filed petitions. Furthermore, if applicable, this notice includes investigations to reconsider negative initial determinations or terminated initial investigations following the receipt of a valid application for reconsideration.

The purpose of each of the investigations is to determine whether the workers are eligible to apply for adjustment assistance under Title II, Chapter 2, of the Act. Any persons showing a substantial interest in the subject matter of the investigations may request a public hearing provided such request is filed in writing with the Administrator, Office of Trade Adjustment Assistance, at the address shown below, no later than ten days after publication in Federal Register.

Initial Investigations

The following are initial investigations commenced following the receipt of a properly filed petition.

TA-W No. | Subject firm | Location | Inv start date
98,047 | American Axle & Manufacturing (AAM) | Emporium, PA | 9/1/2021
98,048 | Computer Task Group, Inc | Boulder, CO | 9/1/2021
98,049 | Mondelez Global LLC | Aurora, CO | 9/1/2021
98,050 | Arcosa Wind Towers, Inc | Clinton, IL | 9/3/2021
98,051 | Computer Task Group, Inc | Buffalo, NY | 9/3/2021
98,052 | Grass Valley USA LLC | Hillsboro, OR | 9/3/2021
98,053 | Amphenol Corporation Spectra Strip | Hamden, CT | 9/7/2021
98,054 | Elsevier | Maryland Heights, MO | 9/7/2021
98,055 | Woodhead Industries, LLC | El Paso, TX | 9/7/2021
98,056 | Prototron Circuits Inc | Redmond, WA | 9/7/2021
98,057 | Tails To The Trails Dog Services | Caddo Mills, TX | 9/10/2021
98,058 | Arcosa Wind Towers, Inc | Newton, IA | 9/13/2021
98,059 | Ascension Health | Indianapolis, IN | 9/13/2021
98,060 | Northwest Hardwoods, Inc | Coos Bay, OR | 9/14/2021
98,061 | Trinseo LLC | Midland, MI | 9/15/2021
98,062 | Carlisle Interconnect Technologies | Kent, WA | 9/16/2021
98,063 | Mondelez Global, LLC | Aurora, CO | 9/16/2021
98,064 | Columbia Sportswear Company | Portland, OR | 9/17/2021
98,065 | Mondelez International | Fair Lawn, NJ | 9/17/2021
98,066 | US Well Services | San Angelo, TX | 9/20/2021
98,067 | DivaHairDeals | Columbia, MD | 9/22/2021
98,068 | Poly | Austin, TX | 9/23/2021
98,069 | CCC Intelligent Solutions Inc | Chicago, IL | 9/24/2021
98,070 | eSchoolData | Bohemia, NY | 9/24/2021
98,071 | The Green Valley Pecan Company | Sahuarita, AZ | 9/29/2021
98,072 | Malteurop North American Inc | Milwaukee, WI | 9/29/2021
98,073 | Liberty Mutual Insurance | Portland, OR | 9/30/2021
98,074 | Mass General Brigham | Somerville, MA | 9/30/2021

A record of these investigations and petitions filed are available, subject to redaction, on the Department's website https://www.dol.gov/agencies/eta/tradeact under the searchable listing or by calling the Office of Trade Adjustment Assistance toll free at 888-365-6822.

Signed at Washington, DC, this 12th day of October 2021.
Hope D. Kinglock,
Certifying Officer, Office of Trade Adjustment Assistance.

[FR Doc. 2021-22991 Filed 10-20-21; 8:45 am]

BILLING CODE 4510-FN-P